DEPARTMENT OF THE INTERIOR

Bureau of Land Management

[CO-920-1430-FQ; COC-28243]

Public Land Order No. 7654; Revocation of Secretarial Order Dated December 15, 1942, and Public Land Order No. 4670; Colorado

AGENCY: Bureau of Land Management, Interior.

ACTION: Public land order.

SUMMARY: This order revokes a Secretarial Order and a Public Land Order in their entireties as they affect 2,333.19 acres of National Forest System land withdrawn for the Bureau of Reclamation's Battlement Mesa Project. This order opens the land to mining and to such forms of disposition as may by law be authorized on National Forest System land.

EFFECTIVE DATE: March 20, 2006.

FOR FURTHER INFORMATION CONTACT: Doris E. Chelius, BLM Colorado State Office, 2850 Youngfield Street, Lakewood, Colorado 80215-7093, 303-239-3706.

SUPPLEMENTARY INFORMATION: The project was never constructed and the Bureau of Reclamation has determined that this land is no longer needed for reclamation purposes and has requested the revocation.

Order

By virtue of the authority vested in the Secretary of the Interior by Section 204 of the Federal Land Policy and Management Act of 1976, 43 U.S.C. 1714(a) (2000), it is ordered as follows:

1. The Secretarial Order dated December 15, 1942, and Public Land Order No. 4670 (34 FR 9860, June 26, 1969), which withdrew National Forest System land for the Bureau of Reclamation Battlement Mesa Project, are hereby revoked in their entireties:

Grand Mesa National Forest Sixth Principal Meridian

T. 9 S., R. 92 W.,

Sec. 24, lots 2, 3, and 4, and SW¼SW¼;

Sec. 25, lot 2, SW¼NE¼ and W½;

Sec. 26, S½;

Sec. 27, lot 1, N½SW¼, SE¼SW¼, and SE¼;

Sec. 34, lots 1 to 10, inclusive, NE¼NE¼, SE¼SW¼, and S½SE¼;

Sec. 35, lots 1 to 5, inclusive, N½NW¼, and E½;

Sec. 36, NW¼.

T. 10 S., R. 92 W.,

Sec. 1, W½NW¼SW¼ and W½SW¼NW¼;

Sec. 2, NE¼NE¼ and SE¼NE¼SE¼.

The area described contains 2,333.19 acres in Mesa County.

2. At 9 a.m. on March 20, 2006, the land will be opened to such forms of disposition as may by law be authorized on National Forest System land, including location and entry under the United States mining laws, subject to valid existing rights, the provisions of existing withdrawals, other segregations of record, and the requirements of applicable law. Appropriation of any of the land described in this order under the general mining laws prior to the date and time of restoration is unauthorized. Any such attempted appropriation, including attempted adverse possession under 30 U.S.C. 38 (2000), shall vest no rights against the United States. Acts required to establish a location and to initiate a right of possession are governed by State law where not in conflict with Federal law. The Bureau of Land Management will not intervene in disputes between rival locators over possessory rights since Congress has provided for such determinations in local courts.

Dated: January 25, 2006.
Mark Limbaugh,
Assistant Secretary of the Interior.

[FR Doc. E6-2292 Filed 2-16-06; 8:45 am]

BILLING CODE 4310-JB-P